NUCLEAR REGULATORY COMMISSION

[Docket No. 50-250]

Florida Power and Light Company; Notice of Withdrawal of Application for Amendment to Facility Operating License

The U.S. Nuclear Regulatory Commission (the Commission) has granted the request of Florida Power and Light Company (the licensee) to withdraw its May 17, 2007, application for proposed amendment to Facility Operating License No. DPR-31 for the Turkey Point Plant, Unit 3, located in Dade County, Florida.

The proposed amendment would have revised the Technical Specifications to allow the use of an alternate method of determining rod position for control rods M-6 and G-5 with inoperable Analog Rod Position Indicators. The Commission had previously issued a Notice of Consideration of Issuance of Amendment published in the Federal Register on May 24, 2007 (72 FR 29186). However, by letter dated June 13, 2007, the licensee withdrew the proposed change.

For further details with respect to this action, see the application for amendment dated May 17, 2007, and the licensee's letter dated June 13, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to: pdr@nrc.gov.

Dated at Rockville, Maryland, this 29th day of June 2007.
For the Nuclear Regulatory Commission.
Brenda Mozafari,
Senior Project Manager, Plant Licensing Branch II-2, Division of Operating Reactor Licensing, Office of Nuclear Reactor Regulation.

[FR Doc. E7-13357 Filed 7-9-07; 8:45 am]

BILLING CODE 7590-01-P